DEPARTMENT OF VETERANS AFFAIRS

[OMB Control No. 2900-0018]

Agency Information Collection Activities Under OMB Review

AGENCY: Office of General Counsel, Department of Veterans Affairs.

ACTION: Notice.

SUMMARY: In compliance with the Paperwork Reduction Act (PRA) of 1995 (44 U.S.C. 3501-3521), this notice announces that the Office of General Counsel (OGC), Department of Veterans Affairs, has submitted the collection of information abstracted below to the Office of Management and Budget (OMB) for review and comment. The PRA submission describes the nature of the information collection and its expected cost and burden; it includes the actual data collection instrument.

DATES: Comments must be submitted on or before November 23, 2007.

ADDRESSES: Submit written comments on the collection of information through www.Regulations.gov; or to VA's OMB Desk Officer, OMB Human Resources and Housing Branch, New Executive Office Building, Room 10235, Washington, DC 20503 (202) 395-7316. Please refer to “OMB Control No. 2900-0018” in any correspondence.

FOR FURTHER INFORMATION CONTACT: Denise McLamb, Records Management Service (005R1B), Department of Veterans Affairs, 810 Vermont Avenue, NW.,Washington, DC 20420, (202) 565-8374, fax (202) 565-7870 or e-mail denise.mclamb@mail.va.gov. Please refer to “OMB Control No. 2900-0018.”

SUPPLEMENTARY INFORMATION: Title: Application for Accreditation as Service Organization Representative; Accreditation Cancellation Information, VA Form 21.

OMB Control Number: 2900-0018.

Type of Review: Revision of a currently approved collection.

Abstract: Service organizations are required to file an application with VA to establish eligibility for accreditation for representatives of that organization to represent benefit claimants before VA. VA Form 21 is completed by service organizations to establish accreditation for representatives, recertify the qualifications of accredited representatives, and to cancel representatives' accreditation due to misconduct or lack of competence. VA uses the information collected to determine whether service organizations representatives continue to meet regulatory eligibility requirements and to ensure claimants have qualified representatives to assist in the preparation, presentation, and prosecution of their claims for benefits.

An agency may not conduct or sponsor, and a person is not required to respond to a collection of information unless it displays a currently valid OMB control number. The Federal Register Notice with a 60-day comment period soliciting comments on this collection of information was published on June 27, 2007, at page 35305.

Affected Public: Individuals or households, Not-for profit institutions, and State, Local, or Tribal Government.

Estimated Annual Burden: 1,003 hours.

Estimated Average Burden Per Respondent: 15 minutes.

Frequency of Response: On occasion.

Estimated Number of Respondents: 4,780.

Dated: October 15, 2007.
By direction of the Secretary.
Denise McLamb,
Program Anaylst, Records Management Service.

[FR Doc. E7-20905 Filed 10-23-07; 8:45 am]

BILLING CODE 8320-01-P